DEPARTMENT OF JUSTICE

Notice of Lodging of Proposed Consent Decree Under the Comprehensive Environmental Response, Compensation and Liability Act

On August 16, 2017, the Department of Justice lodged a proposed Consent Decree with the District Court of the Southern District of New York in a lawsuit entitled United States v. Monroe Iron & Metal Co., Inc. et al., Civil Action No. 17-6217.

In this action the United States seeks, as provided under the Comprehensive Environmental Response, Compensation and Liability Act, recovery of response costs from three parties regarding the Port Refinery Superfund Site (“Site”) in the Village of Rye Brook, New York. The proposed Consent Decree resolves the United States' claims and requires the Monroe Iron & Metal Co., Inc., Ocanna, Inc., and Southern Natural Gas Company, L.L.C. to pay, in aggregate, $151,503 in reimbursement of the United States' past response costs regarding the Site.

The publication of this notice opens the public comment on the proposed Consent Decree. Comments should be addressed to the Assistant Attorney General, Environment and Natural Resources Division, and should refer to United States v. Monroe Iron & Metal Co., Inc. et al., Civil Action No. 17-6217, D.J. Ref. 90-11-3-1142/2. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please email your request and payment to: Consent Decree Library, U.S. DOJ—ENRD, P.O. Box 7611, Washington, DC 20044-7611.

Please enclose a check or money order for $6.50 (25 cents per page reproduction cost) payable to the United States Treasury.

Susan M. Akers,
Assistant Chief, Environmental Enforcement Section, Environment and Natural Resources Division.

[FR Doc. 2017-17784 Filed 8-22-17; 8:45 am]

BILLING CODE 4410-15-P